ENVIRONMENTAL PROTECTION AGENCY

[FRL-6845-3]

State Program Requirements; Application to Administer the National Pollutant Discharge Elimination System (NPDES) Program; Maine

AGENCY: Environmental Protection Agency (EPA).

ACTION: Notice; extension of public comment period on application for approval of the Maine Pollutant Discharge Elimination System.

SUMMARY: The State of Maine has submitted a request for approval of the Maine Pollutant Discharge Elimination System (MEPDES) Program pursuant to section 402 of the Clean Water Act. On December 30, 1999 (64 FR 73552) EPA published a notice requesting comments on the Maine application by February 29, 2000. On June 28, 2000 (65 FR 39899) EPA published an extension of the comment period until July 28, 2000. Today, EPA is extending the comment period on the State's request until August 21, 2000 in response a request from commenters, solely for the purposes of taking comment on the question of whether EPA should approve the State's application to administer its program in the lands or territories of the Indian Tribes in Maine.

DATES: EPA Region I will take written comments solely on the question of whether EPA should approve the State's application to operate its program in the lands or territories of the Indian Tribes in Maine through August 21, 2000 at its office in Boston, MA. EPA requests that copies of such written comments also be provided to the Maine Department of Environmental Protection (MEDEP).

ADDRESSES: Written comments must be submitted to: Stephen Silva, USEPA Maine State Office, 1 Congress Street—Suite 1100 (CME), Boston, MA 02114-2023. EPA requests that a copy of each comment be submitted to: Dennis Merrill, MEDEP, Statehouse Station #17, Augusta, ME 04333-0017.

Copies of documents Maine has submitted in support of its program approval request may be reviewed during normal business hours, Monday through Friday, excluding holidays, at: EPA Region I, 11th Floor Library, 1 Congress Street—Suite 1100, Boston, MA 02114-2023, 617-918-1990 or 1-888-372-5427; and MEDEP, Ray Building, Hospital Street, Augusta, ME.

FOR FURTHER INFORMATION CONTACT: Stephen Silva at the address listed above or by calling (617) 918-1561 or Dennis Merrill at the address listed above or by calling (207) 287-7788. The State's submissions (which comprise approximately 128 pages in the application, 382 pages in the appendix, and 11 pages in a supplement with an additional 688 pages of attachments) may be copied at the MEDEP office in Augusta, or EPA office in Boston, at a cost of 15 cents per page. A copy of the entire initial submission (not including the supplement) may be obtained from the MEDEP office in Augusta for a $20 fee.

Part of the State's program submission and supporting documentation is available electronically at the following Internet address: http://www.state.me.us/dep/blwq/delegation/delegation.htm

Other Federal Statutes

Nothing in this extension of the public comment period changes any of the analyses or findings concerning other federal statutes which EPA made in its notice of December 30, 1999. See 64 FR 73554-73555.

Authority: This action is prepared under the authority of section 402 of the Clean Water Act as amended, 42 U.S.C. 1342.

Dated: July 26, 2000.
Ira W. Leighton,
Acting Regional Administrator, Region I.

[FR Doc. 00-19788 Filed 8-3-00; 8:45 am]

BILLING CODE 6560-50-P